DEPARTMENT OF HOMELAND SECURITY

Federal Emergency Management Agency

44 CFR Part 67

[Docket No. FEMA-B-7790]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before September 29, 2008.

ADDRESSES: The corresponding preliminary Flood Insurance Rate Map (FIRM) for the proposed BFEs for each community are available for inspection at the community's map repository. The respective addresses are listed in the table below.

You may submit comments, identified by Docket No. FEMA-B-7790, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground: Existing | * Elevation in feet (NGVD) + Elevation in feet (NAVD) # Depth in feet above ground: Modified
Village of Maple Bluff, Wisconsin
Wisconsin | Village of Maple Bluff | Lake Mendota | Entire Shoreline | +852 | +853
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Village of Maple Bluff
Maps are available for inspection at 18 Oxford Place, Madison, WI 53704.

Flooding source(s) | Location of referenced elevation ** | * Elevation in feet (NGVD) + Elevation in feet (NAVD) # Depth in feet above ground: Effective | * Elevation in feet (NGVD) + Elevation in feet (NAVD) # Depth in feet above ground: Modified | Communities affected
Lea County, New Mexico, and Incorporated Areas
Main Street Ditch | Approximately 270 feet downstream of S. Industrial Rd | None | +3887 | Unincorporated Areas of Lea County.
| Approximately 2050 feet upstream of S. Industrial Road | None | +3893
Railroad Ditch | Intersection of S. Main Street and E. Gilmore Road | None | +3880 | Unincorporated Areas of Lea County.
| Intersection of R Avenue and 9th Street | None | +3911
Stream 2 | Intersection with Dal Paso Street | None | +3637 | Unincorporated Areas of Lea County.
| Approximately 2650 feet upstream of Dal Paso St. (City of Hobbs limits) | None | +3643
Stream 3 | Intersection with N. Dal Paso St | None | +3655 | Unincorporated Areas of Lea County.
| Approximately 2850 feet upstream of N. Rolling Meadows Dr | None | +3674
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Lea County
Maps are available for inspection at 100 North Main, Lovington, NM 88260.
Nassau County, New York, and Incorporated Areas
Atlantic Ocean | Approximately 1,000 feet west of the county line and 1,600 feet inland from the Atlantic Ocean | +11 | +6 | Town of Oyster Bay.
| Approximately 2.86 miles west of the county line and 0.547 miles inland from the Atlantic Ocean | +9 | +8
Atlantic Ocean | Approximately 510 feet north of the intersection of Bay Boulevard and Coronado Street | +9 | +10 | City of Long Beach, Village of Atlantic Beach.
| At the intersection of East Broadway and Riverside Boulevard | +9 | +16
Cold Spring Harbor | Approximately 1,960 feet northeast of the intersection of Elfland Court and Tennis Court Road | +12 | +11 | Village of Cove Neck.
| Approximately 0.4 mile northeast of the intersection of Elfland Court and Tennis Court Road | +14 | +11
Glen Cove Creek | On Morris Avenue, 1,070 feet west northwest of the intersection of Shore Boulevard and Glen Cove Avenue | +13 | +11 | City of Glen Cove.
| Approximately 850 feet west northwest of the intersection of Hammond Road and Shore Boulevard | +13 | +12
Head of Bay | At the intersection of Bayswater Boulevard and Walnut Road | +7 | +11 | Town of Hempstead.
Motts Creek | At a point approximately 1,234 feet downstream of Cochran Place | +7 | +11 | Village of Valley Stream.
| At a point approximately 40 feet downstream of Rockaway Avenue | +10 | +11
South Oyster Bay | At the intersection of Deerwater Avenue and Edgewater Avenue | +6 | +7 | Village of Freeport, Town of Oyster Bay.
| Approximately 195 feet southwest of the intersection of Woodcleft Avenue and Richmond Street | +6 | +10
Valley Stream | At a point approximately 95 feet downstream of Central Avenue | +7 | +11 | Village of Valley Stream.
| At Sunrise Highway | +10 | +11
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Glen Cove
Maps are available for inspection at Glen Cove City Hall, 9 Glen Street, Glen Cove, NY.
City of Long Beach
Maps are available for inspection at Long Beach City Hall, 1 West Chester Street, Long Beach, NY.
Town of Hempstead
Maps are available for inspection at Hempstead Town Hall, One Washington Street, Hempstead, NY.
Town of Oyster Bay
Maps are available for inspection at Oyster Bay Town Hall North, 74 Audry Avenue, Oyster Bay, NY.
Village of Atlantic Beach
Maps are available for inspection at Atlantic Beach Village Hall, 65 The Plaza, Atlantic Beach, NY.
Village of Cove Neck
Maps are available for inspection at Cove Neck Village Attorney's Office, 147 Forest Avenue, Locust Valley, NY.
Village of Freeport
Maps are available for inspection at Freeport Village Hall, 46 North Ocean Avenue, Freeport, NY.
Village of Valley Stream
Maps are available for inspection at Valley Stream Village Hall, 123 South Central Avenue, Valley Stream, NY.
Haywood County, North Carolina, and Incorporated Areas
Plott Creek | Approximately 200 feet upstream of the confluence with Richland Creek | +2701 | +2702 | Unincorporated Areas of Haywood County, Town of Waynesville.
| Approximately 650 feet upstream of Serenity Mountain Road | None | +3225
* National Geodetic Vertical Datum.
+ North American Vertical Datum. | # Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
Town of Waynesville
Maps are available for inspection at Waynesville Town Hall, 16 South Main Street, Waynesville, NC.
Unincorporated Areas of Haywood County
Maps are available for inspection at Haywood County Planning Office, 1233 North Main Street, Waynesville, NC.
Knox County, Ohio, and Incorporated Areas
Center Run | At East Gambier Rd | None | +979 | Unincorporated Areas of Knox County.
| Approximately 700 feet downstream of E Vine St | None | +981
Kokosing River | 0.55 miles upstream of Big Run Road | None | +944 | Village of Gambier.
| Approximately 360 feet upstream of Laymon Rd | None | +953
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Knox County
Maps are available for inspection at 117 East High Street, Mount Vernon, OH 43050.
Village of Gambier
Maps are available for inspection at 115 Meadow Lane, Gambier, OH 43022.
Waukesha County, Wisconsin, and Incorporated Areas
Lake Nagawicka | Entire Shoreline | *891 | *893 | Village of Nashotah.
North Lake | Entire Shoreline | None | *900 | Village of Chenequa.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Village of Chenequa
Maps are available for inspection at 31275 W. Hwy. K, Chenequa, WI 53029.
Village of Nashotah
Maps are available for inspection at N44 W32950 Watertown Plank Rd., Nashotah, WI 53058-0123.

(Catalog of Federal Domestic Assistance No. 97.022, “Flood Insurance.”)

Dated: June 20, 2008.
David I. Maurstad,
Federal Insurance Administrator of the National Flood Insurance Program, Department of Homeland Security, Federal Emergency Management Agency.

[FR Doc. E8-14714 Filed 6-27-08; 8:45 am]

BILLING CODE 9110-12-P